DEPARTMENT OF TRANSPORTATION

Federal Transit Administration

Fiscal Year 2014-2015 Public Transportation on Indian Reservations Program Project Selections

AGENCY: Federal Transit Administration (FTA), U.S. Department of Transportation (DOT).

ACTION: CORRECTION: Tribal Transit Program announcement of project selections.

SUMMARY: This notice is providing Table 1 (Fiscal Years 2014-2015 Tribal Transit Program Discretionary Project Selections) that was inadvertently omitted from the notice that was published on February 22, 2016, titled “Fiscal Year 2014-2015 Public Transportation on Indian Reservations Program Project Selections.”

FOR FURTHER INFORMATION CONTACT: Successful applicants should contact the appropriate FTA Regional office for information regarding applying for the funds or program-specific information. A list of Regional offices, along with a list of tribal liaisons can be found at www.fta.dot.gov. Unsuccessful applicants may contact Élan Flippin, Office of Program Management at (202) 366-3800, email: Elan.Flippin@dot.gov, to arrange a proposal debriefing within 30 days of this announcement. In the event the contact information provided by your tribe in the application has changed, please contact your regional tribal liaison with the current information in order to expedite the grant award process. A TDD is available at 1-800-877-8339 (TDD/FIRS).

Therese W. McMillan,
Acting Administrator.

State | Recipient | Project ID | Project description | Allocation
AK | Craig Tribal Association | D2014-TRTR-001 | Start-up/Capital | $264,495
| Hydaburg Cooperative Association (HCA) | D2014-TRTR-002 | Replacement/Capital | 300,000
| Kaltag Tribal Council | D2014-TRTR-003 | Start-up/Capital | 56,925
| Kenaitze Indian Tribe | D2014-TRTR-004 | Expansion/Capital, Operating | 300,000
| Native Village of Eyak | D2014-TRTR-005 | Expansion/Planning | 25,000
| Native Village of Fort Yukon | D2014-TRTR-006 | Existing/Operating | 51,086
| Native Village of Point Hope Council | D2014-TRTR-007 | Start-up/Capital | 174,740
| Native Village of Point Hope Council | D2014-TRTR-008 | Start-up/Operating | 33,030
| Native Village of Point Hope Council | D2014-TRTR-009 | Start-up/Capital | 1,350
| Ninilchik Village Tribe | D2014-TRTR-010 | Start-up/Operating, Capital | 300,000
| Seldovia Village Tribe | D2014-TRTR-011 | Existing/Operating | 150,000
AZ | Hualapai Indian Tribe | D2014-TRTR-012 | Replacement/Capital | 19,800
| Quechan Indian Tribe | D2014-TRTR-013 | Existing/Operating | 243,213
| Yavapai-Apache Nation | D2014-TRTR-014 | Expansion/Operating, Capital | 300,000
CA | Blue Lake Rancheria, California | D2014-TRTR-015 | Start-up/Planning | 15,662
| Morongo Band of Mission Indians | D2014-TRTR-016 | Expansion/Capital, Operating | 212,333
| North Fork Rancheria of Mono Indians of California | D2014-TRTR-017 | Existing/Operating | 171,949
| Reservation Transportation Authority | D2014-TRTR-018 | Replacement/Capital | 216,833
| Reservation Transportation Authority | D2014-TRTR-019 | Existing/Planning | 25,000
| Yurok Tribe of the Yurok Reservation, California | D2014-TRTR-020 | Expansion, Replacement Capital | 121,500
CO | Southern Ute Indian Tribe | D2014-TRTR-021 | Replacement/Capital | 69,419
| Southern Ute Indian Tribe | D2014-TRTR-022 | Replacement/Capital | 52,200
ID | Nez Perce Tribe | D2014-TRTR-023 | Expansion, Replacement/Capital | 300,000
KS | Sac and Fox Nation of Missouri | D2014-TRTR-024 | Start-up/Operating | 252,879
MI | Sault Ste. Marie Tribe of Chippewa Indians | D2014-TRTR-025 | Start-up/Operating | 300,000
MN | Bois Forte Band of Chippewa | D2014-TRTR-026 | Expansion/Capital | 300,000
| Fond du Lac Band of Lake Superior Chippewa | D2014-TRTR-027 | Existing/Capital | 160,776
| White Earth Band of Chippewa Indians | D2014-TRTR-028 | Existing/Capital | 124,921
MS | Mississippi Band of Choctaw Indians | D2014-TRTR-029 | Expansion/Capital | 95,294
MT | Confederated Salish and Kootenai Tribes | D2014-TRTR-030 | Expansion/Capital | 300,000
| Crow Tribe of Indians | D2014-TRTR-031 ($61,595) D2015-TRTR-001 ($48,116) | Existing/Capital | 109,711
| Crow Tribe of Indians | D2015-TRTR-002 | Existing/Capital | 3,492
| Crow Tribe of Indians | D2015-TRTR-003 | Existing/Capital | 53,687
| Crow Tribe of Indians | D2015-TRTR-004 | Expansion/Capital | 26,841
| Fort Belknap Indian Community | D2015-TRTR-005 | Expansion/Capital | 220,000
NE | Omaha Tribe of Nebraska | D2015-TRTR-006 | Existing/Operating, Capital | 300,000
| Ponca Tribe of Nebraska | D2015-TRTR-007 | Expansion/Capital | 97,500
| Santee Sioux Nation | D2015-TRTR-008 | Replacement/Capital | 79,662
| Winnebago Tribe of Nebraska | D2015-TRTR-009 | Replacement/Capital | 109,800
| Winnebago Tribe of Nebraska | D2015-TRTR-010 | Expansion/Capital | 36,000
NM | Pueblo of Laguna | D2015-TRTR-011 | Expansion/Planning | 22,500
| Pueblo of Santa Ana | D2015-TRTR-012 | Replacement/Capital | 80,000
| Pueblo of Santa Ana | D2015-TRTR-013 | Expansion/Planning | 25,000
| Pueblo of Jemez | D2015-TRTR-014 | Existing/Operating | 189,760
| Pueblo of Jemez | D2015-TRTR-015 | Expansion/Capital | 80,000
NV | Te-Moak Tribe of Western Shoshone | D2015-TRTR-016 | Start-up/Operating | 300,000
| Yerington Paiute Tribe | D2015-TRTR-017 | Replacement/Capital | 125,604
NY | Seneca Nation of Indians | D2015-TRTR-018 | Expansion/Capital | 250,000
OK | Cherokee Nation, Oklahoma | D2015-TRTR-019 | Replacement/Capital | 92,500
| Choctaw Nation of Oklahoma | D2015-TRTR-020 | Replacement/Capital | 300,000
| Citizen Potawatomi Nation | D2015-TRTR-021 | Replacement/Capital | 254,000
| Kickapoo Tribe of Oklahoma | D2015-TRTR-022 | Start-up/Planning | 25,000
| Miami Tribe of Oklahoma | D2015-TRTR-023 | Replacement/Capital | 201,694
| Muscogee (Creek) Nation | D2015-TRTR-024 | Replacement/Capital | 216,175
| United Keetoowah Band of Cherokee Indians in Oklahoma | D2015-TRTR-025 | Replacement/Capital | 112,000
SD | Cheyenne River Sioux Tribe | D2015-TRTR-026 | Replacement/Capital | 300,000
| Sisseton-Wahpeton Oyate of the Lake Traverse Reservation | D2015-TRTR-027 | Start-up/Capital, Operating | 300,000
WA | Confederated Tribes and Bands of the Yakama Nation | D2015-TRTR-028 | Existing/Planning | 19,986
| Cowlitz Indian Tribe | D2015-TRTR-029 | Expansion/Planning | 25,000
| Jamestown S'Klallam Tribe | D2015-TRTR-030 | Existing/Operating | 76,413
| Makah Tribe of Indians | D2015-TRTR-031 | Expansion/Capital | 83,535
| Muckleshoot Indian Tribe | D2015-TRTR-032 | Start-up/Operating | 300,000
| Skokomish Indian Tribe | D2015-TRTR-033 | Existing/Operating | 63,735
WI | Lac du Flambeau Band of Lake Superior Chippewa Indians | D2015-TRTR-034 | Expansion/Capital, Operating | 300,000
| Menominee Indian Tribe of Wisconsin | D2015-TRTR-035 | Replacement/Capital | 300,000
Total Allocation |  |  |  | $10,018,000

[FR Doc. 2016-04085 Filed 2-25-16; 8:45 am]

BILLING CODE 4910-57-P